DEPARTMENT OF LABOR

Office of Workers' Compensation Programs

Division of Longshore and Harbor Workers' Compensation; Proposed Extension of Information Collection; Comment Request

ACTION: Notice.

SUMMARY: The Department of Labor, as part of its continuing effort to reduce paperwork and respondent burden, conducts a preclearance consultation program to provide the general public and Federal agencies with an opportunity to comment on proposed and/or continuing collections of information in accordance with the paperwork Reduction Act of 1995 (PRA95) [44 U.S.C. 3506 (c)(2)(A)] This program helps to ensure that requested data can be provided in the desired format, reporting burden (time and financial resources) is minimized, collection instruments are clearly understood, and the impact of collection requirements on respondents can be properly assessed. Currently, the Office of Workers' Compensation Programs (OWCP) is soliciting comments concerning extension of the collection: Employer's First Report of Injury or Occupational Disease (LS-202) and Employer's Supplementary Report of Accident or Occupational Illness (LS-210). A copy of the proposed information collection extension request can be obtained by contacting the office listed below in the address section of this Notice.

DATES: Written comments must be submitted to the office listed in the addresses section below on or before September 28, 2010.

ADDRESSES: Mr. Vincent Alvarez, U.S. Department of Labor, 200 Constitution Ave., NW., Room S-3201, Washington, DC 20210, telephone (202) 693-0372, fax (202) 693-1378, E-mail Alvarez.Vincent@dol.gov. Please use only one method of transmission for comments (mail, fax, or E-mail).

SUPPLEMENTARY INFORMATION: I. Background: The Office of Workers' Compensation Programs administers the Longshore and Harbor Workers' Compensation Act. The Act provides benefits to workers injured in maritime employment on the navigable waters of the United States and adjoining area customarily used by an employee in loading, unloading, repairing, or building a vessel. The LS-202 is used by employers initially to report injuries that have occurred which are covered under the Longshore Act and its related statutes. The LS-210 is used to report additional periods of lost time from work. This information collection is currently approved for use through December 31, 2010.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the extension of approval of this information collection in order to ensure that employers are complying with the reporting requirements of the Act and to ensure that injured claimants receive all compensation benefits to which they are entitled.

Agency: Office of Workers' Compensation Programs.

Type of Review: Extension.

Title: Request for Earnings Information.

OMB Number: 1240-0003.

Agency Number: LS-202 and LS-210.

Affected Public: Business or other for-profit, Not-for-profit institution.

Form | Time to complete (minutes) | Frequency of response | Number of respondents | Number of responses | Hours burden
LS-202 | 15 | occasion | 20,087 | 20,087 | 5,022
LS-210 | 15 | occasion | 996 | 996 | 249
Totals |  |  | 21,083 | 21,083 | 5,271

Total Respondents: 21,083.

Total Annual Responses: 21,083.

Estimated Total Burden Hours: 5,271.

Estimated Time per Response: 15 minutes.

Frequency: On occasion.

Total Burden Cost (capital/startup): $0.

Total Burden Cost (operating/maintenance): $9,909.00.

Comments submitted in response to this notice will be summarized and/or included in the request for Office of Management and Budget approval of the information collection request; they will also become a matter of public record.

Dated: July 26, 2010.
Vincent Alvarez,
Agency Clearance Officer, Office of Workers' Compensation Programs, U.S. Department of Labor.

[FR Doc. 2010-18719 Filed 7-29-10; 8:45 am]

BILLING CODE 4510-CF-P